DEPARTMENT OF HEALTH AND HUMAN SERVICES

Administration for Children and Families

Proposed Information Collection Activity; National and Tribal Evaluation of the 2nd Generation of the Health Profession Opportunity Grants (OMB #0970-0462)

AGENCY: Office of Planning, Research, and Evaluation, Administration for Children and Families, HHS.

ACTION: Request for public comment.

SUMMARY: The Health Profession Opportunity Grants (HPOG) Program provides healthcare occupational training for Temporary Assistance for Needy Families recipients and other individuals with low incomes. The Office of Management and Budget (OMB) has approved various data collection activities for the National and Tribal Evaluation of the 2nd Generation of HPOG (HPOG 2.0 National and Tribal Evaluation) under OMB #0970-0462. The Administration for Children and Families' (ACF) Office of Planning, Research, and Evaluation (OPRE) is now preparing to conduct the HPOG 2.0 Long-Term Follow-Up Study of HPOG 2.0 participants 5½ years after study enrollment, using a long-term survey (LTS) and administrative data. This notice provides a summary for public review and comment of the use and burden associated with the LTS instrument.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION: Description: The HPOG 2.0 evaluation of non-tribal programs is assessing the implementation and impacts of HPOG in non-tribal HPOG programs and will include a cost-benefit analysis. Key participant outcomes of interest include (but are not limited to) educational progress, employment, and earnings.

The HPOG 2.0 Long-Term Follow-Up Study will use survey and administrative data to estimate longer-term (approximately 5½ years after random assignment) program impacts at the local and national level and to explore characteristics of local programs that are associated with more favorable outcomes. By extending data collection to include an LTS, OPRE can address important unanswered questions for policymakers and practitioners. The HPOG 2.0 LTS specifically will provide insights into the long-term impacts of HPOG 2.0 for outcomes that are not captured in administrative records, such as details about educational experiences, characteristics of employment, self-employment, and earnings from jobs not covered in administrative data, receipt of public assistance, physical and mental well-being, and child outcomes. There are two versions of the HPOG 2.0 LTS, the full version (Instrument 21) and a shorter version with critical items of interest only (Instrument 21a). Instrument 21a will be offered to reluctant participants who would otherwise not complete the survey to help maximize response rates and reduce item non-response for the most critical outcomes in the study.

Respondents: HPOG impact study participants from the 27 non-tribal HPOG 2.0 grantees (treatment and control group members) who enrolled between September 2017 and January 2018.

Annual Burden Estimates: This request is specific to the HPOG 2.0 Long-Term Follow-Up Survey (LTS) (both the full and critical items only versions). Currently approved materials and associated burden, which we plan to continue to use can be found at: https://www.reginfo.gov/public/do/PRAICList?ref_nbr=201904-0970-006.

Instrument | Number of respondents (total over request period) | Number of responses per respondent (total over request period) | Avg. burden per response (in hours) | Total burden (in hours) | Annual burden (in hours)
Instrument 21a: HPOG 2.0 Long-Term Survey | 3,064 | 1 | 1 | 3,064 | 1,021
Instrument 21a: HPOG 2.0 Long-Term Survey Critical Items Instrument | 541 | 1 | 0.33 | 179 | 60
Total | 3,605 |  |  | 3,243 | 1,081

Estimated Total Annual Burden Hours: 1,081.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 2008 of the Social Security Act as enacted by section 5507 of the Affordable Care Act and section 413 of the Social Security Act, 42 U.S.C. 613.

Mary B. Jones,
ACF/OPRE Certifying Officer.

[FR Doc. 2022-07461 Filed 4-7-22; 8:45 am]

BILLING CODE 4184-72-P